DEPARTMENT OF DEFENSE

Office of the Secretary

Base Closure and Realignment

AGENCY: Office of Economic Adjustment, Department of Defense.

ACTION: Notice.

SUMMARY: This Notice is provided pursuant to section 2905(b)(7)(B)(ii) of the Defense Base Closure and Realignment Act of 1990. It provides a partial list of military installations closing or realigning pursuant to the 2005 Defense Base Closure and Realignment (BRAC) Report. It also provides a corresponding listing of the Local Redevelopment Authorities (LRAs) recognized by the Secretary of Defense, acting through the Department of Defense Office of Economic Adjustment (OEA), as well as the points of contact, addresses, and telephone numbers for the LRAs for those installations. Representatives of state and local governments, homeless providers, and other parties interested in the redevelopment of an installation should contact the person or organization listed. The following information will also be published simultaneously in a newspaper of general circulation in the area of each installation. There will be additional Notices providing this same information about LRAs for other closing or realigning installations where surplus government property is available as those LRAs are recognized by the OEA.

EFFECTIVE DATE: July 20, 2007.

FOR FURTHER INFORMATION CONTACT: Director, Office of Economic Adjustment, Office of the Secretary of Defense, 400 Army Navy Drive, Suite 200, Arlington, VA 22202-4704, (703) 604-6020.

Local Redevelopment Authorities (LRAs) for Closing and Realigning Military Installations

Arkansas

Installation Name: Camden USARC.

LRA Name: Camden Airport Commission.

Point of Contact: Kathy Lee, Assistant Mayor, City of Camden.

Address: P.O. Box 278, 206 Van Buren, N.E., Camden, AR 71701-0278.

Phone: (870) 836-6436.

Wisconsin

Installation Name: Truman Olson USARC.

LRA Name: Community Development Authority of the City of Madison.

Point of Contact: Mark A. Olinger, Director, Department of Planning & Community & Economic Development, City of Madison.

Address: 215 Martin Luther King, Jr. Boulevard, Suite LL100, P.O. Box 2985, Madison, WI 53701-2985.

Phone: (608) 266-4635.

Dated: June 16, 2007.
L.M. Bynum,
Alternate OSD Federal Register Liaison Officer, Department of Defense.

[FR Doc. 07-3535 Filed 7-19-07; 8:45 am]

BILLING CODE 5001-06-M